DEPARTMENT OF THE TREASURY

Internal Revenue Service

26 CFR Part 1

[TD 9441]

RIN 1545-BI46

Section 482: Methods To Determine Taxable Income in Connection With a Cost Sharing Arrangement

Correction

In rule document E8-30715 beginning on page 340 in the issue of Monday, January 5, 2009 make the following correction:

§1.482-7T [Corrected]

On page 354, in §1.482-7T(b)(5), in the second column, in paragraph (5), in the second line, “(i) Situation in which Commissioner must treat arrangement as a CSA.” should read “(i)Situation in which Commissioner must treat arrangement as a CSA.”

[FR Doc. Z8-30715 Filed 2-26-09; 8:45 am]

BILLING CODE 1505-01-D